DEPARTMENT OF EDUCATION

Extension of Application Deadline Date; Applications for New Awards; Project Prevent Program

AGENCY: Office of Elementary and Secondary Education, Department of Education.

ACTION: Notice.

SUMMARY: On August 19, 2022, the Department of Education (Department) published in the Federal Register a notice inviting applications (NIA) for the fiscal year (FY) 2022 Project Prevent program competition, Assistance Listing Number 84.184M. The NIA established a deadline date of October 3, 2022, for the transmittal of applications. This notice extends the deadline date for transmittal of applications until October 5, 2022, and extends the deadline for intergovernmental review until December 9, 2022.

DATES: Deadline for Transmittal of Applications: October 5, 2022. Deadline for Intergovernmental Review: December 9, 2022.

FOR FURTHER INFORMATION CONTACT: Nicole White, U.S. Department of Education, Telephone: (202) 453-6729. Email: Project.Prevent@ed.gov.

If you are deaf, hard of hearing, or have a speech disability and wish to access telecommunications relay services, please dial 7-1-1.

SUPPLEMENTARY INFORMATION: On August 19, 2022, we published an NIA for the Project Prevent program competition in the Federal Register (87 FR 51072). The NIA established a deadline date of October 3, 2022, for the transmittal of applications. We are extending the deadline date for transmittal of applications, because Grants.gov, the system used to submit applications electronically, will be closed for site maintenance from September 23-29, 2022. Since applicants will be unable to submit or work in Grants.gov during that time, we are extending the deadline to allow applicants additional time to complete and submit their applications.

Applicants that have submitted applications before the original deadline date of October 3, 2022, may resubmit their applications on or before the new application deadline date of October 5, 2022, but are not required to do so. If a new application is not submitted, the Department will use the application that was submitted by the original deadline. If a new application is submitted, the Department will consider the application that was last submitted successfully and received by 11:59:59 p.m., Eastern Time, on October 5, 2022.

Note: All requirements and conditions stated in the NIA remain the same, except for the deadline for the transmittal of applications and the deadline for intergovernmental review.

Program Authority: 20 U.S.C. 7281.

Accessible Format: On request to the program contact person listed under FOR FURTHER INFORMATION CONTACT, individuals with disabilities can obtain this document, the NIA, and a copy of the application package in an accessible format. The Department will provide the requestor with an accessible format that may include Rich Text Format (RTF) or text format (txt), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Senior Advisor, Office of the Secretary Delegated the Authority to Perform the Functions and Duties of the Assistant Secretary for the Office of Elementary and Secondary Education.

[FR Doc. 2022-21660 Filed 10-5-22; 8:45 am]

BILLING CODE 4000-01-P